DEPARTMENT OF HOMELAND SECURITY

Coast Guard

33 CFR Part 147

[Docket Number USCG-2025-0056]

RIN 1625-AA00

Safety Zone; Sunrise Wind Farm Project Area, Outer Continental Shelf, Lease OCS-A 0487, Offshore Massachusetts, New York, and Rhode Island, Atlantic Ocean

AGENCY: Coast Guard, DHS.

ACTION: Temporary interim rule and request for comments.

SUMMARY: The Coast Guard is establishing 85 temporary safety zones around the construction of individual wind energy facilities during the development of the Sunrise Wind Farm project area. The project area lies within Federal waters on the Outer Continental Shelf, specifically in the Bureau of Ocean Energy Management Renewable Energy Lease Area OCS-A 0487, approximately 16 nautical miles south of Martha's Vineyard, MA. This action protects life, property, and the environment during construction of each facility. When a safety zone is being enforced, only attending vessels and vessels with authorization are permitted to enter or remain in the safety zone.

DATES:

Effective date: This rule will be effective without actual notice from June 16, 2025 through 11:59 p.m. on May 31, 2028. However individual safety zones will only be enforced during active construction, or in other instances where a hazard to navigation may exist, as determined by the First Coast Guard District Commander. For the purposes of enforcement, actual notice will be used from June 1, 2025, until June 16, 2025.

Comments due date: Comments and related material must be received by the Coast Guard on or before September 15, 2025.

ADDRESSES: Although this regulation is published as an interim rule without prior notice, public comment is nevertheless desirable following the effective date to ensure that the regulation is both workable and reasonable while the rule remains in effect. If the Coast Guard determines on the basis of comments submitted that changes to the temporary interim rule are necessary, we will publish a temporary final rule, or other document, as appropriate. You may submit comments identified by docket number USCG-2025-0056 using the Federal Decision-Making Portal at https://www.regulations.gov. See the “Public Participation and Request for Comments” portion of the SUPPLEMENTARY INFORMATION section for further instructions on submitting comments. To view documents mentioned in this preamble as being available in the docket, go to https://www.regulations.gov, type USCG-2025-0056 in the search box and click “Search.” Next, in the Document Type column, select “Supporting & Related Material.

FOR FURTHER INFORMATION CONTACT: If you have questions about this rulemaking, call or email Mr. Craig Lapiejko, Waterways Management at Coast Guard First District, telephone 571-607-6314, email craig.d.lapiejko@uscg.mil.

SUPPLEMENTARY INFORMATION:

I. Table of Abbreviations

BOEM Bureau of Ocean Energy Management

COP Construction and Operations Plan

CFR Code of Federal Regulations

DD Decimal Degrees

DHS Department of Homeland Security

FR Federal Register

LNM Local Notice to Mariners

MA Massachusetts

MSIB Marine Safety Information Bulletin

NY New York

NAD83 North American Datum of 1983

NPRM Notice of Proposed Rulemaking

NOAA National Oceanic and Atmospheric Administration

NM Nautical Mile

OCS-DC Offshore Converter Station—DC

OCS Outer Continental Shelf

OSS Offshore Substation

RI Rhode Island

§ Section

SW Sunrise Wind

TIR Temporary Interim Rule

U.S.C. United States Code

VHF Very High Frequency

WTG Wind Turbine Generator

II. Background Information and Regulatory History

The Energy Policy Act of 2005, Public Law 109-58, amended the Outer Continental Shelf Lands Act, 43 U.S.C. 1331 et seq., by adding a new subsection 8(p) to authorize the Secretary of the Interior to issue leases, easements, and rights-of-way in the Outer Continental Shelf (OCS) for renewable energy development, including wind energy projects. The Secretary of the Interior has delegated to the Bureau of Ocean Energy Management (BOEM) the authority to decide whether to approve Construction and Operations Plans (COPs) for such projects.¹

¹ See p. 9 (the 12th of 240 pages) of the Record of Decision for the Sunrise Wind Project Construction and Operations Plan (March 25, 2024). It is available at: https://www.boem.gov/sites/default/files/documents/renewable-energy/state-activities/05579_Record%20of%20Decision_Sunrise%20Wind_OCS-A%200487.pdf.

Sunrise Wind LLC, an offshore wind farm developer, proposed to develop an offshore wind energy facility, known as Sunrise Wind, offshore New York (NY), Massachusetts (MA), and Rhode Island (RI). On March 25, 2024, BOEM announced its approval of Sunrise Wind's COP, which authorizes the offshore construction and operation of the wind energy project. That was the project's final approval from BOEM, following the agency's Record of Decision (ROD) approving the project.²

² BOEM announced the availability of the ROD on December 15, 2023, at 89 FR 86927.

Sunrise Wind notified the Coast Guard that they plan to begin construction of the facilities in the Sunrise Wind Farm project area, which lies within Federal waters on the OCS and partially in the BOEM Renewable Energy Lease Area OCS-A 0487, as early as June 2025. That lease area lies approximately 16 nautical miles (nm) south of Martha's Vineyard, MA, approximately 26 nm east of Montauk, NY, and approximately 14 nm from Block Island, RI.

The extremely complex offshore construction of these OCS facilities presents many unusually hazardous conditions, including hydraulic pile driving hammer operations, heavy lift operations, overhead cutting operations, potential falling debris, increased vessel traffic, and stationary vessels and barges in close proximity to the facilities and to each other. Additional information about the construction process of Sunrise Wind can be found at https://www.boem.gov/renewable-energy/state-activities/sunrise-wind.

Based on the hazardous conditions created by this construction, the First Coast Guard District Commander has determined that establishment of 85 temporary safety zones through rulemaking is warranted to ensure the safety of life, property, and the environment within a 500-meter radius of each of the 85 facilities during their construction.

The Coast Guard is issuing this temporary rule under authority in 5 U.S.C. 553(b)(B). This statutory provision authorizes an agency to issue a rule without prior notice and opportunity to comment when, for good cause, the agency finds that those procedures are “impracticable, unnecessary, or contrary to the public interest.” The Coast Guard finds that good cause exists to issue the rule prior to providing notice and taking comments because it would be impracticable to delay promulgating a rule to take comments before doing so. Construction of the Sunrise Wind project could begin as soon as June 1, 2025, leaving insufficient time to consider the received comments, and issue a rule by this anticipated date of construction.

Under 5 U.S.C. 553(d)(3), the Coast Guard also finds that good cause exists for making this rule effective less than 30 days after publication in the Federal Register considering the anticipated start of construction could begin as soon as June 1, 2025. Delaying the effective date of this rule would be contrary to public interest because immediate action is needed to respond to the potential safety risks associated with the extremely complex and unusually hazardous construction of these OCS facilities.

III. Legal Authority and Need for Rule

The Coast Guard is issuing this rule under the authorities provided in 14 U.S.C. 544, 43 U.S.C. 1333, and Department of Homeland Security (DHS) Delegation No. 00170.1, Revision No. 01.3. Our regulations in 33 CFR part 147, which implement these authorities, permit the establishment of safety zones for non-mineral energy resource, permanent or temporary structures located on the OCS. As explained in 33 CFR 147.1, safety zones under part 147 may be established around OCS facilities being constructed, maintained, or operated on the OCS.

Such safety zones may be established to promote the safety of life and property on the facilities, their appurtenances, and attending vessels, and on the adjacent waters within the safety zones. As construction of the wind farm facilities includes hydraulic pile driving hammer operations, heavy lift operations, overhead cutting operations, potential falling debris, increased vessel traffic, and stationary barges in close proximity to the facilities and each other, the COTP has determined the safety zones are necessary.

IV. Discussion of the Temporary Interim Rule

This rule establishes 85 temporary, 500-meter safety zones around the construction of 84 wind turbine generators (WTGs) and one offshore converter station (OCS-DC) on the OCS from June 1, 2025, through 11:59 p.m. on May 31, 2028. Each of the safety zones would only be subject to enforcement, however, during active construction or other instances which may cause a hazard to navigation as determined by the First Coast Guard District Commander.

The construction of these facilities is expected to begin with the installation of the foundations, followed by the installation of the upper structures for each of the 85 facilities. Major construction activity could take place for a period lasting approximately 96 hours or more at several locations, sometimes simultaneously, in the lease area for these 85 facilities. The Coast Guard will make notice of each enforcement period via the Local Notice to Mariners and issue a Broadcast Notice to Mariners via marine channel 16 (VHF-FM) as soon as practicable in response to an emergency or hazardous condition. The Coast Guard is publishing this rulemaking to be effective through May 31, 2028, to encompass any construction delays due to weather or other unforeseen circumstances. If, as currently scheduled, the project is completed before May 31, 2028, enforcement of the safety zones would be suspended, and notice given via Local Notice to Mariners.

Additional information about the construction process of Sunrise Wind can be found at https://www.boem.gov/renewable-energy/state-activities/sunrise-wind.

The 85 temporary 500-meter safety zones around the construction of 84 WTGs and one OCS-DC are in the Sunrise Wind project area, specifically in a portion of the BOEM Renewable Energy Lease Area OCS-A 0487, approximately 16 nm south of Martha's Vineyard, MA, approximately 26 nm east of Montauk, NY, and approximately 14 nm from Block Island, RI. The positions of each individual safety zone described by this rulemaking will be referred to using a unique alpha-numeric naming convention outlined in the “Rhode Island and Massachusetts Structure Labeling Plot (West)” ³ as shown in table 1 to paragraph (a) of the rule, which is provided below.

³ The Rhode Island and Massachusetts Structure Labeling Plot (West) is an attachment to the Conditions of Construction and Operations Plan Approval Lease Number OCS-A 0517 (boem.gov) and can be found at https://www.boem.gov/sites/default/files/documents/renewable-energy/state-activities/SFWF-COP-Terms-and-Conditions.pdf.

Aligning with authorities under 33 CFR 147.15, the safety zones will include the area within 500-meters of the center point of the positions provided in the table below expressed in Degrees (°) Minutes (′) Seconds (″) (DMS) based on North American Datum 1983 (NAD 83).

The positions of the 85 temporary safety zones are shown on the chartlets in figures 1-3 below. For scaling purposes, there is approximately one NM spacing between each position in the figure 1-3.

BILLING CODE 9110-04-P

Figure 1—Small Scale Chartlet Showing the Positions of the Temporary Safety Zones

Figure 2—Large Scale Chartlet Showing the Positions of the Temporary Safety Zones With a 500-Meter Safety Zone

Figure 3—Chartlet Showing Locations Using Alpha-Numeric Naming Convention

BILLING CODE 9110-04-C

Navigation in the vicinity of the temporary safety zones consists of large commercial shipping vessels, fishing vessels, cruise ships, tugs with tows, and recreational vessels.

When subject to enforcement, no unauthorized vessel or person will be permitted to enter the safety zone without obtaining permission from the First Coast Guard District Commander or a designated representative. Requests for entry into the safety zone will be considered and reviewed on a case-by-case basis. Persons or vessels seeking to enter the safety zone must request authorization from the First Coast Guard District Commander or designated representative via VHF-FM channel 16 or by phone at 866-842-1560 (First Coast Guard District Command Center). If permission is granted, all persons and vessels shall comply with the instructions of the First Coast Guard District Commander or designated representative.

The regulatory text appears at the end of this document.

V. Regulatory Analyses

We developed this rule after considering numerous statutes and Executive Orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, the NPRM has not been reviewed by the Office of Management and Budget (OMB).

Aligning with 33 CFR 147.15, the safety zones established will extend to a maximum distance of 500-meters around each OCS facility, measured from its center point. Vessel traffic will be able to safely transit around the temporary safety zones, which would impact a small, designated area in the Atlantic Ocean, without significant impediment to their voyage. These temporary safety zones will provide for the safety of life, property, and the environment during the construction of each structure, in accordance with Coast Guard maritime safety missions.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule would not have a significant economic impact on a substantial number of small entities.

This rule may affect owners or operators of vessels intending to transit through, or anchor in, the Sunrise Wind farm project area. Some of these owners or operators might be small entities. However, these safety zones would not have a significant economic impact on a substantial number of these entities because they are only subject to enforcement for short periods, allow for deviation requests, and would not impact vessel transit significantly. Regarding the enforcement period, although these safety zones will be in effect from June 1, 2025, through May 31, 2028, vessels will only be prohibited from being in the regulated areas during periods of actual major construction activity in a particular safety zone. We expect the enforcement period at each location to only last for a short period. Additionally, vessel traffic could pass safely around each safety zone using an alternate route. Use of an alternate route likely will cause minimal delay for the vessel in reaching their destination depending on other traffic in the area and vessel speed. Vessels can also request deviation from this rule to transit through a safety zone. Such requests will be considered on a case by-case basis and may be authorized by the First Coast Guard District Commander or a designated representative. For these reasons, the Coast Guard expects any impact of this rulemaking establishing a temporary safety zone around these OCS facilities to be minimal and have no significant economic impact on small entities.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This temporary rule will not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this rule under that Order and have determined that it is consistent with the fundamental federalism principles and preemption requirements described in Executive Order 13132.

Also, this temporary rule does not have Tribal implications under Executive Order 13175 (Consultation and Coordination with Indian Tribal Governments) because it would not have a substantial direct effect on one or more Indian tribes, on the relationship between the Federal Government and Indian tribes, or on the distribution of power and responsibilities between the Federal Government and Indian tribes. If you believe this rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the potential effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves the establishment of a safety zone around an OCS facility to protect life, property, and the marine environment. It is categorically excluded from further review under paragraph L60(a) of appendix A, table 1 of DHS Instruction Manual 023-01-001-01, Rev. 1. A Record of Environmental Consideration supporting this determination is available in the docket. For instructions on locating the docket, see the ADDRESSES section of this preamble. We seek any comments or information that may lead to the discovery of a significant environmental impact from this rule.

VI. Public Participation and Request for Comments

Although we are promulgating this as a temporary interim rule for lack of time to take comments prior to issuing the rule, we view public participation as essential to effective rulemaking and will consider all comments and material received during the comment period. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0056 in the search box and click “Search.” Next, look for this document in the Search Results column, and click on it. Then click on the Comment option. If you cannot submit your material by using https://www.regulations.gov, call or email the person in the FOR FURTHER INFORMATION CONTACT section of this rule for alternate instructions.

Viewing material in docket. To view documents mentioned in this rule as being available in the docket, find the docket as described in the previous paragraph, and then select “Supporting & Related Material” in the Document Type column. Public comments will also be placed in our online docket and can be viewed by following instructions on the https://www.regulations.gov Frequently Asked Questions web page. Also, if you click on the Dockets tab and then the rule, you should see a “Subscribe” option for email alerts. The option will notify you when comments are posted, or a final rule is published.

We review all comments received, but we will only post comments that address the topic of the rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 147

Continental shelf, Marine safety, Navigation (waters).

For the reasons discussed in the preamble, the Coast Guard amends 33 CFR part 147 as follows:

PART 147—SAFETY ZONES

1. The authority citation for part 147 continues to read as follows:

Authority: 14 U.S.C. 544; 43 U.S.C. 1333; 33 CFR 1.05-1; Department of Homeland Security Delegation No. 00170.1, Revision No. 01.4.

2. Add § 147.T01-0056 to read as follows:

§ 147.T01-0056 Safety Zone; Sunrise Wind Farm Project Area, Outer Continental Shelf, Lease OCS-A 0487, Massachusetts, New York, and Rhode Island, Atlantic Ocean.

(a) Description. Each of the areas within 500-meters of the center point of the positions provided in the table below, expressed in Degrees (°) Minutes (′) Seconds (″) (DMS) based on North American Datum 1983 (NAD 83), constitutes a safety zone.

Table 1 to Paragraph (a)
Name | Facility type | Latitude | Longitude
AR16 | WTG | 41°02′47.4″ N | 70°56′48.1″ W
AS01 | WTG | 41°01′25.3″ N | 71°16′34.3″ W
AS02 | WTG | 41°01′26.4″ N | 71°15′16.2″ W
AS03 | WTG | 41°01′28.6″ N | 71°13′55.2″ W
AS04 | WTG | 41°01′29.3″ N | 71°12′36.4″ W
AS05 | WTG | 41°01′28.2″ N | 71°11′18.6″ W
AS06 | WTG | 41°01′29.6″ N | 71°09′58.7″ W
AS07 | WTG | 41°01′34.3″ N | 71°08′39.5″ W
AS08 | OSS | 41°01′36.1″ N | 71°07′20.6″ W
AS09 | WTG | 41°01′33.6″ N | 71°06′00.7″ W
AS10 | WTG | 41°01′39.0″ N | 71°04′41.5″ W
AS11 | WTG | 41°01′40.1″ N | 71°03′18.7″ W
AS12 | WTG | 41°01′41.9″ N | 71°02′03.1″ W
AS13 | WTG | 41°01′43.3″ N | 71°00′43.9″ W
AS14 | WTG | 41°01′44.4″ N | 70°59′24.7″ W
AS15 | WTG | 41°01′45.8″ N | 70°58′05.5″ W
AS16 | WTG | 41°01′48.7″ N | 70°56′46.7″ W
AS17 | WTG | 41°01′48.7″ N | 70°55′26.8″ W
AS18 | WTG | 41°01′48.0″ N | 70°54′09.4″ W
AS19 | WTG | 41°01′51.2″ N | 70°52′49.1″ W
AS20 | WTG | 41°01′52.7″ N | 70°51′26.3″ W
AT01 | WTG | 41°00′25.6″ N | 71°16′32.5″ W
AT02 | WTG | 41°00′27.0″ N | 71°15′14.0″ W
AT04 | WTG | 41°00′30.2″ N | 71°12′35.3″ W
AT05 | WTG | 41°00′31.7″ N | 71°11′16.1″ W
AT06 | WTG | 41°00′33.1″ N | 71°09′56.9″ W
AT07 | WTG | 41°00′34.6″ N | 71°08′37.7″ W
AT08 | WTG | 41°00′36.0″ N | 71°07′18.5″ W
AT09 | WTG | 41°00′38.9″ N | 71°06′00.4″ W
AT10 | WTG | 41°00′38.9″ N | 71°04′39.7″ W
AT11 | WTG | 41°00′36.7″ N | 71°03′20.5″ W
AT12 | WTG | 41°00′41.8″ N | 71°02′01.3″ W
AT13 | WTG | 41°00′43.2″ N | 71°00′42.1″ W
AT14 | WTG | 41°00′43.9″ N | 70°59′22.6″ W
AT15 | WTG | 41°00′45.7″ N | 70°58′03.7″ W
AT16 | WTG | 41°00′47.2″ N | 70°56′44.5″ W
AT17 | WTG | 41°00′49.0″ N | 70°55′25.7″ W
AT18 | WTG | 41°00′49.7″ N | 70°54′05.8″ W
AT19 | WTG | 41°00′51.1″ N | 70°52′46.6″ W
AT20 | WTG | 41°00′52.6″ N | 70°51′31.3″ W
AU01 | WTG | 40°59′25.1″ N | 71°16′30.7″ W
AU02 | WTG | 40°59′26.9″ N | 71°15′11.2″ W
AU04 | WTG | 40°59′30.1″ N | 71°12′33.1″ W
AU05 | WTG | 40°59′31.6″ N | 71°11′13.9″ W
AU06 | WTG | 40°59′33.0″ N | 71°09′54.7″ W
AU07 | WTG | 40°59′34.4″ N | 71°08′35.5″ W
AU09 | WTG | 40°59′37.3″ N | 71°05′57.1″ W
AU10 | WTG | 40°59′38.8″ N | 71°04′37.6″ W
AU11 | WTG | 40°59′41.3″ N | 71°03′15.5″ W
AU12 | WTG | 40°59′42.4″ N | 71°01′59.2″ W
AU13 | WTG | 40°59′43.1″ N | 71°00′40.3″ W
AU14 | WTG | 40°59′44.5″ N | 70°59′21.1″ W
AU15 | WTG | 40°59′44.2″ N | 70°58′00.1″ W
AU16 | WTG | 40°59′47.0″ N | 70°56′42.7″ W
AU17 | WTG | 40°59′48.5″ N | 70°55′23.5″ W
AU18 | WTG | 40°59′49.9″ N | 70°54′04.3″ W
AU19 | WTG | 40°59′52.8″ N | 70°52′45.1″ W
AU21 | WTG | 40°59′53.5″ N | 70°50′09.6″ W
AV01 | WTG | 40°58′25.7″ N | 71°16′28.9″ W
AV02 | WTG | 40°58′27.1″ N | 71°15′09.7″ W
AV03 | WTG | 40°58′28.6″ N | 71°13′50.5″ W
AV04 | WTG | 40°58′30.0″ N | 71°12′31.3″ W
AV05 | WTG | 40°58′31.4″ N | 71°11′12.1″ W
AV06 | WTG | 40°58′32.9″ N | 71°09′52.9″ W
AV07 | WTG | 40°58′34.7″ N | 71°08′33.7″ W
AV08 | WTG | 40°58′36.1″ N | 71°07′14.5″ W
AV09 | WTG | 40°58′37.6″ N | 71°05′55.3″ W
AV10 | WTG | 40°58′39.0″ N | 71°04′36.1″ W
AV11 | WTG | 40°58′40.4″ N | 71°03′17.3″ W
AV12 | WTG | 40°58′41.2″ N | 71°01′57.7″ W
AV13 | WTG | 40°58′43.0″ N | 71°00′38.5″ W
AV17 | WTG | 40°58′48.4″ N | 70°55′21.7″ W
AW01 | WTG | 40°57′25.6″ N | 71°16′26.8″ W
AW02 | WTG | 40°57′27.0″ N | 71°15′07.6″ W
AW03 | WTG | 40°57′28.4″ N | 71°13′48.4″ W
AW05 | WTG | 40°57′31.7″ N | 71°11′10.0″ W
AW06 | WTG | 40°57′31.7″ N | 71°09′50.8″ W
AW07 | WTG | 40°57′34.6″ N | 71°08′31.6″ W
AW08 | WTG | 40°57′33.8″ N | 71°07′12.4″ W
AW09 | WTG | 40°57′37.4″ N | 71°05′53.5″ W
AW10 | WTG | 40°57′38.9″ N | 71°04′34.3″ W
AW11 | WTG | 40°57′40.3″ N | 71°03′15.1″ W
AW12 | WTG | 40°57′38.9″ N | 71°01′55.9″ W
AU03 | WTG | 40°59′28.3″ N | 71°13′57.4″ W
AU08 | OCS-DC | 40°59′36.2″ N | 71°07′17.0″ W

(b) Definitions. As used in this section:

Designated representative means a Coast Guard Patrol Commander, including a Coast Guard coxswain, petty officer, or other officer operating a Coast Guard vessel and a Federal, State, and local officer designated by or assisting the First Coast Guard District Commander in the enforcement of the safety zones.

Local officer means any officer, agent, or employee of a unit of local government authorized by law or by a local government agency to engage in or supervise the prevention, detection, investigation, or prosecution of any violation of criminal law.

(c) Regulations. No vessel may enter or remain in the safety zone described in paragraph (a) of this section except for the following:

(1) An attending vessel as defined in 33 CFR 147.20;

(2) A vessel authorized by the First Coast Guard District Commander or a designated representative.

(d) Request for permission. Persons or vessels seeking to enter the safety zone must request authorization from the First Coast Guard District Commander or a designated representative. If permission is granted, all persons and vessels must comply with lawful instructions of the First Coast Guard District Commander or designated representative via VHF-FM channel 16 or by phone at 866-842-1560 (First Coast Guard District Command Center).

(e) Effective and enforcement periods. This rule will be effective from 12:01 a.m. June 1, 2025, through 11:59 p.m. on May 31, 2028. But individual safety zones will only be enforced during active construction or other instances which may cause a hazard to navigation as determined by the First Coast Guard District Commander. The First Coast Guard District Commander will make notification of the exact dates and times in advance of each enforcement period for the safety zones in paragraph (a) of this section to the local maritime community through the Local Notice to Mariners and will issue a Broadcast Notice to Mariners via marine channel 16 (VHF-FM) as soon as practicable in response to an emergency. If the project is completed before May 31, 2028, enforcement of the safety zones will be suspended, and notice given via Local Notice to Mariners. The First Coast Guard District Local Notice to Mariners can be found at: http://www.navcen.uscg.gov.

(f) Processing of violations. Violations of this section may be processed in accordance with 33 CFR 140.40 on civil and criminal penalty proceedings.

M.E. Platt,
Rear Admiral, U.S. Coast Guard, Commander, First Coast Guard District.

[FR Doc. 2025-11020 Filed 6-13-25; 8:45 am]

BILLING CODE 9110-04-P